DEPARTMENT OF AGRICULTURE

Food and Nutrition Service

Agency Information Collection Activities: Proposed Collection; Comment Request—School Breakfast Program

AGENCY: Food and Nutrition Service (FNS), USDA.

ACTION: Notice.

SUMMARY: In accordance with the Paperwork Reduction Act of 1995, this notice invites the general public and other public agencies to comment on this information collection. This collection is a revision of a currently approved collection which FNS employs to determine public participation in the School Breakfast Program.

DATES: Written comments must be received on or before May 21, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lynn Rodgers-Kuperman, Branch Chief, Program Analysis and Monitoring, Child Nutrition Division, Food and Nutrition Service, U.S. Department of Agriculture, 3101 Park Center Drive, Room 500, Alexandria, VA 22302-1594. Comments may also be submitted via fax to the attention of Lynn Rodgers-Kuperman at 703-305-2879 or via email to lynn.rodgers@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Lynn Rodgers-Kuperman at 703-305-2600.

SUPPLEMENTARY INFORMATION: Title: School Breakfast Program Information Collection Request (ICR) Renewal.

OMB Number: 0584-0012.

Expiration Date: May 31, 2012.

Type of Request: Revision of a currently approved collection.

Abstract: Section 4 of the Child Nutrition Act of 1966 (CNA) (42 U.S.C. 1773), authorizes the School Breakfast Program (SBP). The SBP is a nutrition assistance program whose benefit is providing breakfast that meets nutritional requirements prescribed by the Department in accordance with Section 4(e) of the CNA. That provision requires that “Breakfasts served by schools participating in the School Breakfast Program under this section shall consist of a combination of foods and shall meet minimum nutritional requirements prescribed by the Secretary on the basis of tested nutritional research.” The reporting and recordkeeping burden associated with this revision is summarized in the charts below. Note that the difference in burden is mainly due to increase in SFAs and Schools, program changes and adjustments.

This information collection is required to administer and operate this program in accordance with the NSLA (National School Lunch Act). The Program is administered at the State and school food authority (SFA) levels and the operations include the submission and approval of applications, execution of agreements, submission of claims, payment of claims, providing monitoring and technical assistance. All of the reporting and recordkeeping requirements associated with the SBP are currently approved by the Office of Management and Budget and are in force. This is a revision of the currently approved information collection.

Affected Public: (1) State agencies; (2) School Food Authorities; and (3) schools.

Number of Respondents: 109,522 (56 SAs, 20,697 SFAs, 88,769 schools).

Number of Responses per Respondent: 10.026214.

Total Annual Responses: 1,098,091.

Reporting Time per Response: 0.24610.

Estimated Annual Reporting Burden: 270,241.

Number of Recordkeepers: 109,522 (56 SAs, 20,697 SFAs, 88,769 schools).

Number of Records per Record Keeper: 294.234.

Estimated Total Number of Records/Response to Keep: 33,432,713.

Recordkeeping Time per Response: 0.11341.

Total Estimated Recordkeeping Burden: 3,654,661.

Annual Recordkeeping and Reporting Burden: 3,924,902.

Current OMB Inventory for Part 210: 2,713,748.

Difference (Change in Burden With This Renewal): 1,211,154.

See the table below for estimated total annual burden for each type of respondent.

Affected public | Estimated number of respondents | Number of responses per respondent | Total annual responses | Estimated total hours per response | Estimated total burden
Reporting
State agencies | 56 | 41.3393 | 2315 | 0.6003 | 1389
School Food Authorities | 20,697 | 10.0539 | 208,086 | 1.07872 | 224,467
Schools | 88,769 | 10.0000 | 887,690 | 0.0500 | 44,385
Total Estimated Reporting Burden | 109,522 | 10.026214 | 1,098,091 | 0.246101097 | 270,241
Recordkeeping
State agencies | 56 | 1076.0000 | 60,256 | 0.5833 | 35,147
School Food Authorities | 20,697 | 10.04995 | 208,004 | 0.501242 | 104,261
Schools | 88,769 | 360.0000 | 31,956,840 | 0.1100 | 3,515,252
Total Estimated Recordkeeping Burden | 109,522 | 294.234035 | 32,225,100 | 0.11341037 | 3,654,661
Total of Reporting and Recordkeeping
Reporting | 109,522 | 10.026214 | 1,098,091 | 0.246101097 | 270,241
Recordkeeping | 109,522 | 294.234035 | 32,225,100 | 0.11341037 | 3,654,661
Total |  |  | 33,432,713 |  | 3,924,902

Dated: March 16, 2012.
Jeffrey J. Tribiano,
Acting Administrator, Food and Nutrition Service.

[FR Doc. 2012-6782 Filed 3-20-12; 8:45 am]

BILLING CODE 3410-30-P